DEPARTMENT OF THE INTERIOR

National Park Service

Public Information Hearings on Planning for Jamestown 400th.

AGENCY: National Park Service (NPS), Interior.

ACTION: Notice of public meetings.

SUMMARY: NPS, working with the Association for the Preservation of Virginia Antiquities (APVA), is hosting two public information meetings to gather information regarding the planning for Jamestown's 400th anniversary in 2007. At Jamestown Virginia, Native Americans, Europeans and Africans came together to form the first permanent English colony in the New World and to begin to develop the society and government now known as the United States of America. The planning includes facilities, exhibits and interpretation as well as environmental compliance. The public information meetings will provide an opportunity for the interested public to provide input into our planning process.

DATE: October 3, 2000, from 1 pm-4 pm and 6 pm-9 pm Eastern Time.

ADDRESS: Jamestown Visitor Center, Theatre 1, Jamestown Island, Colonial National Historical Park.

FOR FURTHER INFORMATION CONTACT: For further information on the meetings or our approach to planning for the 400th anniversary of Jamestown, write to Heather Huyck, Jamestown 400th Project Director, c/o Colonial National Historical Park, Box 210, Yorktown VA 23690. You may call Ms. Jeannie Freeman (NPS) at 757-898-3400 or call Ms. Elizabeth Kostelny (APVA) at 804-648-1889. You may also send an email to jtplan@apva.org.

Speaking at Public Meeting

Anyone who plans to speak at any of these meetings should write, call or email a request to speak to the address listed above. Include your name, affiliation, address, phone number and email address, approximately how much speaking time you desire, and which session you will attend. We will use this information to try to arrange enough time on the agenda for all comments. We will make every effort to accommodate your request but cannot guarantee that you will be given all the time you request. Please send all requests to present oral comments at the public meeting by September 25, 2000.

Providing Written Information

We are also interested in receiving any documents that support your oral information, or any other written information on the subject. These written materials may be mailed or emailed to the same address listed Please submit your written material or documentation in an unbound format, no larger than 8½ x 11 inches, suitable for copying and electronic filing. Please include your name, affiliation, address and phone number. All information provided will become part of the public record. To avoid duplication of documents in the public record, please do not send the same information by paper copy and email. To assure we have time to review all written information before the October 3, 2000 meeting, please send all written information by September 16, 2000.

Dated: August 31, 2000.
Heather Huyck,
Jamestown 400th Project Director.

[FR Doc. 00-23220 Filed 9-8-00; 8:45 am]

BILLING CODE 4310-70-P